DEPARTMENT OF EDUCATION

[CFDA No.: 84.328R]

Office of Special Education and Rehabilitative Services

Special Education—Training and Information for Parents of Children With Disabilities Program—Technical Assistance for the Parent Centers (84.328R)

ACTION: Notice inviting applications for new awards for fiscal year (FY) 2003.

SUMMARY: The Assistant Secretary for Special Education and Rehabilitative Services invites applications for FY 2003 under the Special Education—Training and Information for Parents of Children with Disabilities Program. This program is authorized under the Individuals with Disabilities Education Act (IDEA), as amended. This notice provides closing dates, priorities, and other information regarding the transmittal of applications.

Purpose of Program: The purpose of this program is to ensure that parents of children with disabilities receive training and information to help improve results for their children.

Eligible Applicants: Nonprofit private organizations.

Applications Available: July 9, 2003.

Deadline for Transmittal of Applications: August 8, 2003.

Deadline for Intergovernmental Review: September 7, 2003.

Estimated Available Funds:

Focus Area 1: $900,000.

Focus Area 2: $1,500,000.

Estimated Average Size and Maximum Award Amount:

Focus Area 1: $900,000.

Focus Area 2: $250,000.

Estimated Number of Awards:

Focus Area 1: 1.

Focus Area 2: 6.

Note: The Department is not bound by any estimates in this notice.

Project Period: Up to 60 months.

Page Limit: Part III of the application submitted under this notice, the application narrative, is where you, the applicant, address the selection criteria that reviewers use in evaluating your application. You must limit Part III to the equivalent of no more than 70 pages, using the following standards:

• A “page” is 8.5″ x 11″ (on one side only) with one-inch margins at the top, bottom, and both sides.

• Double space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject your application if—

• You apply these standards and exceed the page limit; or

• You apply other standards and exceed the equivalent of the page limit.

Applicable Regulations: The Education Department General Administrative Regulations (EDGAR) in 34 CFR parts 74, 75, 77, 79, 80, 81, 82, 85, 86, 97, 98, and 99.

Selection Criteria: In evaluating an application for a new award under this competition, we use selection criteria chosen from the general selection criteria in 34 CFR 75.210 of EDGAR. The specific selection criteria to be used for this competition will be provided in the application package for this competition.

General Requirements

(a) The projects funded under this competition must make positive efforts to employ and advance in employment qualified individuals with disabilities (see section 606 of IDEA).

(b) Applicants and grant recipients under this competition must involve qualified individuals with disabilities or parents of individuals with disabilities in planning, implementing, and evaluating the projects (see section 661(f)(1)(A) of IDEA).

(c) The projects funded under this competition must budget for a two-day Project Directors' meeting in Washington, DC during each year of the project.

(d) If a project maintains a Web site, it must include relevant information and documents in an accessible form.

Priorities

Under 34 CFR 75.105(c)(3), we consider only applications that meet the following absolute priority: Absolute Priority—Technical Assistance for the Parent Centers (84.328R)

Background: This priority, authorized under section 684 of IDEA, is for the purpose of developing, assisting, and coordinating parent training and information programs carried out by Parent Training and Information Centers (PTIs) under section 682 and the Community Parent Resource Centers (CPRCs) under section 683.

A technical assistance component to support the funded centers has been part of the law since the beginning of the program. This priority will create a unified technical assistance system that will provide support to the PTIs and CPRCs, as well as strengthen connections to the larger technical assistance network that supports research-based training, including educating parents about effective practices that improve results for children with disabilities. The priority will also strengthen partnerships among the PTIs, CPRCs, and State education systems at the regional and national levels.

Priority: This priority will support cooperative agreements in two focus areas: (1) A national technical assistance project, the National Parent Technical Assistance Center (National Parent TAC); and (2) six regional technical assistance centers, Regional Parent Technical Assistance Centers (Regional Parent TACs), which will coordinate with the National Parent TAC and provide direct support to the PTIs and CPRCs in their identified States based on the best empirical evidence of how to meet the informational and training needs of families who have children with disabilities.

Prior to developing any new product, whether paper or electronic, the projects funded under this priority must submit for approval a proposal describing the content and purpose of any new product to the document review board of the Office of Special Education Program's (OSEP) new Dissemination Center.

Focus Area 1

The National Parent TAC funded under this priority will assist six Regional Parent TACs in creating a unified technical assistance system for the PTIs and CPRCs funded under the IDEA.

The National Parent TAC must—

(a) Collaborate with other technical assistance providers and researchers in developing or adapting resource and training materials that incorporate scientifically based research and best practices for use by the PTIs and the CPRCs;

(b) Maintain and update a materials database that aligns with the OSEP Product Database and the Dissemination Center, which includes products developed under paragraph (a) and, to the extent possible, materials in multiple languages and accessible formats;

(c) In collaboration with OSEP, develop an evaluation instrument, which must be approved by OSEP, to be used by all the funded PTIs and CPRCs, that measures program effectiveness and outcomes for children;

(d) Establish a mechanism for data collection and reporting that corresponds to the outcomes established under paragraph (c) and corresponds to other information needs as determined through collaboration and coordination with the regional centers and OSEP;

(e) Maximize the computer and technological capacities of the PTIs and CPRCs by building on the system and network currently in place;

(f) Plan and conduct an annual national conference, in conjunction with the OSEP project officer and the six Regional Parent TACs, for all the funded parent centers in this program;

(g) Plan and conduct a New Directors' Conference in November of each year for all new directors of PTIs and CPRCs;

(h) Provide direct technical assistance to the Military and Native American National Centers funded under this program;

(i) Collaborate with other technical assistance providers, such as the Federal Resource Center (FRC), the Regional Resource Centers (RRCs), and the Dissemination Center, to use available resources, to access research-based practices and findings, and to participate in educational and system reform activities to improve results for children with disabilities;

(j) Coordinate and collaborate with the six Regional Parent TACs and OSEP to—

(1) Support the development of a unified parent training and information system that includes ways to improve results for children with disabilities;

(2) Coordinate special education technical assistance efforts across regions to benefit and enhance the PTIs and the CPRCs;

(3) Promote partnerships and collaborations with other entities involved in creating positive outcomes for children with disabilities;

(4) Conduct an assessment of the training and information needs of the PTIs and the CPRCs (including information on parent involvement and support for improved outcomes for students), in conjunction with the six Regional Parent TACs;

(5) Provide the six Regional Parent TACs with information on effective models for collaborative training that involves both parents and professionals who provide education and services to children with disabilities; and

(6) Provide technical assistance to the PTIs and the CPRCs to identify and implement effective strategies for working with families from underserved and underrepresented populations; and

(k) Coordinate and collaborate with the Regional Parent TACs, OSEP, the FRC, and RRCs to improve collaboration and coordination of effort among RRCs, PTIs, and CPRCs on the preparation of training materials that include scientifically based research and best practices and information on the No Child Left Behind Act of 2001 (NCLB).

Focus Area 2

The six Regional Parent TACs funded under this priority will coordinate with the National Parent TAC in order to promote a unified system for the provision of technical assistance to PTIs and CPRCs and to strengthen and enhance OSEP's Technical Assistance and Dissemination (TA&D) Network.

Each project must—

(a) Provide direct technical assistance to PTIs and CPRCs in its region;

(b) Provide direct technical assistance and disseminate information through a variety of mechanisms to individual parent centers on management processes or content areas (e.g., NCLB, special education and related services issues, system reform, laws and regulations, alternative dispute resolution, and networking), as identified through a needs assessment;

(c) Provide direct technical assistance to each PTI and CPRC in its region on outreach efforts to underserved and underrepresented populations;

(d) Collaborate with other technical assistance providers, such as the FRC, RRCs, and the Dissemination Center, to use available resources, to access research-based practices and findings, and to participate in educational and system reform activities;

(e) Collaborate with the National Parent TAC, the FRC, and RRCs to improve collaboration and coordination of efforts among RRCs, PTIs, and CPRCs on the preparation of training materials that include scientifically based research and best practices and information on the NCLB; and

(f) Coordinate and collaborate with the National Parent TAC to—

(1) Conduct an assessment of the training and information needs of the PTIs and CPRCs;

(2) Provide direct technical assistance to each parent center to assist them in measuring program effectiveness and outcomes for children and to make changes as needed;

(3) Maximize the computer and technological capabilities of the PTIs and CPRCs by identifying training needs and providing access to training, supporting a national database of training materials in multiple languages and accessible formats, supporting an electronic linkage across all the funded centers using a Web page and bulletin boards that are user friendly, and implementing other appropriate strategies; and

(4) Participate in planning the national conference each year and conduct one regional conference each year.

Geographic Regions

There will be one award in each of the regions identified as follows:

Region 1 Parent TAC: CT, ME, MA, NH, NJ, NY, RI, VT.

Region 2 Parent TAC: DE, KY, MD, NC, SC, TN, VA, DC, WV.

Region 3 Parent TAC: AL, AR, FL, GA, LA, MS, OK, Puerto Rico, TX, U.S. Virgin Islands.

Region 4 Parent TAC: IL, IN, IA, MI, MN, MO, OH, PA, WI.

Region 5 Parent TAC: AZ, CO, KS, MT, NE, ND, NM, SD, UT, WY.

Region 6 Parent TAC: AK, CA, HI, ID, NV, OR, WA, the outlying areas of the Pacific Basin, and the Freely Associated States.

Competitive Preference Priorities: Within the absolute priority, we will award additional points under the following competitive preference priority under 34 CFR 75.105(c)(2)(i) to applicant organizations that are otherwise eligible for funding under the absolute priority:

We will award 10 points to applicants that are organizations that meet the following definition:

Parent organizations, as defined in section 682(g) of IDEA. A parent organization is a private nonprofit organization (other than an institution of higher education) that—

(a) Has a board of directors, (1) the parent and professional members of which are broadly representative of the population to be served, (2) the majority of whom are parents of children with disabilities, and (3) that includes individuals with disabilities and individuals working in the fields of special education, related services, and early intervention; or

(b) Has a membership that represents the interests of individuals with disabilities and has established a special governing committee meeting the requirements for a board of directors in paragraph (a) and has a memorandum of understanding between this special governing committee and the board of directors of the organization that clearly outlines the relationship between the board and the committee and the decisionmaking responsibilities and authority of each.

Any parent organization that establishes a special governing committee under section 682(g)(2) of IDEA must demonstrate that the bylaws of its organization allow the governing committee to be responsible for operating the project (consistent with existing fiscal policies of its organization).

In addition, we will award additional points under the following competitive preference priority under 34 CFR 75.105(c)(2)(i) to applicant organizations that are otherwise eligible for funding under the absolute priority:

We will award 10 points under Focus 2 of the absolute priority to applicants who are located in the region they are proposing to serve.

Therefore, for the purposes of these competitive preference priorities, applicants under Focus 1 can be awarded a total of 10 points in addition to those awarded under the published selection criteria for this program. That is, an applicant meeting the first competitive preference could earn a maximum total of 110 points.

Applicants under Focus 2 can be awarded a total of 10 points in addition to those awarded under the published selection criteria for this program. That is, an applicant meeting the second competitive preference could earn a maximum total of 110 points. An applicant meeting both competitive preferences could earn a maximum total of 120 points.

Waiver of Proposed Rulemaking: It is generally our practice to offer interested parties the opportunity to comment on proposed priorities. However, section 661(e)(2) of IDEA makes the public comment requirements in the Administrative Procedure Act (5 U.S.C. 553) inapplicable to the priorities in this notice.

Application Procedures

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2003, the U.S. Department of Education is continuing to expand its pilot project of electronic submission of applications to include additional formula grant programs and additional discretionary grant competitions. The Special Education—Training and Information for Parents of Children with Disabilities Program—CFDA #84.328R is one of the programs included in the pilot project. If you are an applicant under the Special Education—Training and Information for Parents of Children with Disabilities Program, you may submit your application to us in either electronic or paper format.

The pilot project involves the use of the Electronic Grant Application System (e-Application). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Education Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on all other forms at a later date.

• Closing Date Extension in Case of System Unavailability: If you elect to participate in the e-Application pilot for the Special Education—Training and Information for Parents of Children with Disabilities Program and you are prevented from submitting your application on the closing date because the e-Application system is unavailable, we will grant you an extension of one business day in order to transmit your application electronically, by mail, or by hand delivery. For us to grant this extension—

1. You must be a registered user of e-Application, and have initiated an e-Application for this competition; and

2. (a) The e-Application system must be unavailable for 60 minutes or more between the hours of 8:30 a.m. and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Special Education—Training and Information for Parents of Children with Disabilities Program at: http://e-grants.ed.gov.

We have included additional information about the e-Application pilot project (see Parity Guidelines between Paper and Electronic Applications) in the application package.

For Applications Contact: Education Publications Center (ED Pubs), P.O. Box 1398, Jessup, Maryland 20794-1398. Telephone (toll free): 1-877-433-7827. Fax: 1-301-470-1244. If you use a telecommunications device for the deaf (TDD), you may call (toll free): 1-877-576-7734.

You may also contact ED Pubs at its Web site: http://www.ed.gov/pubs/edpubs.html.

Or you may contact ED Pubs at its e-mail address: edpubs@inet.ed.gov

If you request an application from ED Pubs, be sure to identify this competition as follows: CFDA 84.328R.

FOR FURTHER INFORMATION CONTACT: The Grants and Contracts Services Team, U.S. Department of Education, 400 Maryland Avenue, SW., room 3317, Switzer Building, Washington, DC 20202-2550. Telephone: 1-202-205-8207.

If you use a telecommunications device for the deaf (TDD), you may call the Federal Information Relay Service (FIRS) at 1-800-877-8339.

Individuals with disabilities may obtain this document or a copy of the application package in an alternative format (e.g., Braille, large print, audiotape, or computer diskette) on request to the Grants and Contracts Services Team listed in this section. However, the Department is not able to reproduce in an alternative format the standard forms included in the application package.

Intergovernmental Review

The program in this notice is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 20 U.S.C. 1484.

Dated: July 3, 2003.
Robert H. Pasternack,
Assistant Secretary for Special Education and Rehabilitative Services.

[FR Doc. 03-17360 Filed 7-8-03; 8:45 am]

BILLING CODE 4000-01-U